NATIONAL COMMISSION ON MILITARY, NATIONAL, AND PUBLIC SERVICE

[NCMNPS Docket No. 05-2018-01]

Notice of Extension To Comment Period on the Request for Information on Improving the Military Selective Service Process and Increasing Participation in Military, National, and Public Service

AGENCY: National Commission on Military, National, and Public Service.

ACTION: Notice; extension of comment period.

SUMMARY: The National Commission on Military, National, and Public Service (the “Commission”) is extending the comment period for the notice, “Request for Information on Improving the Military Selective Service Process and Increasing Participation in Military, National, and Public Service.” In response to stakeholder requests, the Commission is extending the comment period until September 2018. Additionally, the contact information for the Commission has been updated.

DATES: The comment period announced in the notice that was published on February 16, 2018, is extended. Comments must now be received by the Commission on or before September 30, 2018.

ADDRESSES: You may submit comments, identified by Docket No. 05-2018-01, by any of the following methods:

• Email: info@inspire2serve.gov. Please include the docket number in the subject line of the message.

• website: http://www.inspire2serve.gov/content/share-your-thoughts. Follow the instructions on the page to submit a comment and include the docket number in the comment.

• Mail: National Commission on Military, National, and Public Service, Attn: RFI COMMENT—Docket 05-2018-01, 2530 Crystal Drive, Suite 1000, Box No. 63, Arlington, VA 22202.

All submissions received must include the docket number. If the Commission cannot read your comment due to technical difficulties and cannot contact you for clarification, the Commission may not be able to consider your comment.

FOR FURTHER INFORMATION CONTACT: For general inquiries, submission process questions, or any additional information about this request for comments, please contact Rachel Rikleen, at (703) 571-3760 or by email at rachel.l.rikleen@inspire2serve.gov.

SUPPLEMENTARY INFORMATION: On February 16, 2018, the Commission published in the Federal Register (83 FR 7080), a request for information, inviting the public to share views on the Commission's mandate—a review of the military selective service process (commonly referred to as `the draft') and to consider methods to increase participation in military, national, and public service in order to address national security and other public service needs of the Nation. The notice of request for information, as initially published in the Federal Register, provided for written comments to be submitted to the Commission on or before April 19, 2018 (a 30-day public comment period). Since publication, the Commission has received requests for additional time to submit comments. The Commission is extending the public comment period until September 30, 2018. A description of the specific topics the Commission would like addressed is outlined in the February Federal Register notice.

Additionally, the Commission has new contact information. The addresses provided in the February Federal Register may still be used. However, members of the public may now also submit comments at the new email address, info@inspire2serve.gov.

Dated: April 16, 2018.
Kent Abernathy,
Executive Director.

[FR Doc. 2018-08328 Filed 4-19-18; 8:45 am]

BILLING CODE 3610-YE-P